DEPARTMENT OF LABOR

Mine Safety and Health Administration

Sago Mine Explosion, Buckhannon, WV; Public Hearing; Correction

AGENCY: Mine Safety and Health Administration, Labor.

ACTION: Notice of public hearing, correction notice.

SUMMARY: This notice corrects the Notice of Public Hearing for Sago Mine explosion, Buckhannon, WV; MSHA's and State of West Virginia's investigation published in the Federal Register on April 13, 2006.

FOR FURTHER INFORMATION CONTACT: Mark R. Malecki, Counsel for Trial Litigation, Office of the Solicitor, United States Department of Labor; phone: (202) 693-9341; facsimile: (202) 693-9361; electronic mail: Malecki.Mark@dol.gov.

SUPPLEMENTARY INFORMATION: Please remove section 3—issuance of subpoenas and insert the following:

3. Issuance of Subpoenas

The Secretary's designated representative shall have the authority to issue subpoenas for the purpose of securing the attendance of witnesses to provide testimony and the production of relevant documents or objects or testimony. If a witness appears to testify pursuant to subpoena, MSHA and the State of West Virginia shall pay all normally applicable witness fees.

Dated: April 12, 2006.
David G. Dye,
Acting Assistant Secretary for Mine Safety and Health.

[FR Doc. 06-3654 Filed 4-12-06; 4:35 pm]

BILLING CODE 4510-43-P